DEPARTMENT OF COMMERCE

National Oceanic and Atmospheric Administration

RIN: 0648-XL70

South Atlantic Fishery Management Council; Public Meetings

AGENCY: National Marine Fisheries Service (NMFS), National Oceanic and Atmospheric Administration (NOAA), Commerce.

ACTION: Notice of public meetings.

SUMMARY: The South Atlantic Fishery Management Council (Council) will hold a joint meeting of its Scientific and Statistical Committee, Law Enforcement Advisory Panel, Limited Access Privilege Program (LAPP) Committee, Personnel Committee (Closed Session), Advisory Panel Selection Committee (Closed Session), a meeting of its Standard Operating, Policy and Procedure (SOPPs) Committee, Joint Executive and Finance Committees, Spiny Lobster Committee, Mackerel Committee, Ecosystem-based Management Committee, Snapper Grouper Committee, Southeast Data, Assessment, and Review (SEDAR) Steering Committee, and a meeting of the full Council.

The Council will also hold a an informal public question and answer session and may hold a public comment session regarding Interim Rule measures to address overfishing of red snapper if the Council considers an Interim Rule request. See SUPPLEMENTARY INFORMATION for additional details.

DATES: The meeting will be held November 30-December 5, 2008. See SUPPLEMENTARY INFORMATION for specific dates and times.

ADDRESSES: The meeting will be held at the Hilton Wilmington Riverside, 301 N. Water Street, Wilmington, NC 28401; telephone: (888) 324-8170 or (910) 763-5900. Copies of documents are available from Kim Iverson, Public Information Officer, South Atlantic Fishery Management Council, 4055 Faber Place Drive, Suite 201, North Charleston, SC 29405.

FOR FURTHER INFORMATION CONTACT: Kim Iverson, Public Information Officer; telephone: (843) 571-4366 or toll free at (866) SAFMC-10; fax: (843) 769-4520; email: kim.iverson@safmc.net.

SUPPLEMENTARY INFORMATION:

Meeting Dates:

1. Scientific and Statistical Committee Meeting: November 30, 2008, 3 p.m. until 5 p.m.; December 1, 2008, 8 a.m.-6 p.m.; December 2, 2008, 8 a.m.-6 p.m., and December 3, 2008, 8 a.m.-5 p.m. (Concurrent Sessions)

The SSC will receive reports from the National SSC meeting, SEDAR Methods Workshops, the Tilefish LAPP Workgroup, and the Council's Fishery Ecosystem Plan. The Committee will review administrative needs for the SEDAR 19 (black grouper and red grouper) stock assessment, the SEDAR schedule, a Gag Natural Mortality Document, the Comprehensive Annual Catch Limit (ACL) Amendment, landings data issues, and report actions and assignments. The Committee will receive presentations on Project FishSmart regarding king mackerel, fishing level recommendations, and characterizing uncertainty for Allowable Biological Catch (ABC).

In addition, the SSC will review and provide recommendations to the Council for SEDAR 16 (king mackerel stock assessment), SEDAR 17 (vermilion snapper and Spanish mackerel stock assessments), and Snapper Grouper Amendment 17 addressing overfishing and updates to stock status determination criteria for red snapper, the establishment Annual Catch Limits (ACLs) and Accountability Measures (AMs) for 10 species currently undergoing overfishing, allocations for those 10 species, and the extension of the management area for some snapper grouper species.

2. Law Enforcement Advisory Panel Meeting: December 1, 2008, 1:30 p.m. until 4:30 p.m.

The Law Enforcement Advisory Panel will meet to review Amendment 17 to the Snapper Grouper Fishery Management Plan (FMP), develop recommendations on enforcement of proposed time/area closures, and other issues relevant to law enforcement. The AP will also receive updates on state and federal enforcement activities, a presentation on the Council's Comprehensive Ecosystem-based Amendment, and discuss Vessel Monitoring Issues.

3. LAPP Committee Meeting: December 1, 2008, 4:30 p.m. until 6 p.m.

The LAPP Committee will receive a summary of the Golden Tilefish LAPP Exploratory Workgroup meeting, discuss the potential of a LAPP for the golden tilefish fishery and the golden crab fishery, consider modifications to the Wreckfish Individual Fishing Quota (IFQ) program, and discuss other items for public scoping.

NOTE: There will be an informal public question and answer session with NOAA Fisheries Services' Regional Administrator and Council members on December 1, 2008 beginning at 6:15 p.m.

4. Personnel Committee Meeting (Closed Session): December 2, 2008, 8 a.m. until 9 a.m.

The Personnel Committee will meet to discuss personnel matters.

5. Advisory Panel Selection Committee Meeting (Closed Session): December 2, 2008, 9 a.m. until 10 a.m.

The Advisory Panel Selection Committee will meet in Closed Session to review applications and develop recommendations for Council consideration.

6. SOPPs Committee Meeting: December 2, 2008, 10 a.m. until 11 a.m.

The SOPPs Committee will receive an update on the Secretarial review of the Council's SOPPs and develop changes as necessary.

7. Joint Executive and Finance Committees Meeting: December 2, 2008, 11 a.m. until 12 noon

The Executive and Finance Committees will meet jointly to review the status of the Calendar Year (CY) 2008 budget, the status of the Fiscal Year 2009 budget, review the 2009-10 FMP/Amendment/Framework timelines and modify as appropriate, and develop and approve the CY 2009 activities schedule and budget.

8. Spiny Lobster Committee Meeting: December 2, 2008, 1:30 p.m. until 2:30 p.m.

The Spiny Lobster Committee will receive an update on three-Council Generic Import Amendment (GIA) regarding the import of spiny lobster, discuss the Gulf of Mexico Fishery Management Council's timing for Amendment 5 to the Joint Gulf and South Atlantic Spiny Lobster FMP, and discuss items to be included in the Comprehensive Annual Catch Limit (ACL) Amendment for public scoping.

9. Mackerel Committee Meeting: December 2, 2008, 2:30 p.m. until 6 p.m.

The Mackerel Committee will review the result of the SEDAR stock assessments for king mackerel and Spanish mackerel and develop recommendations. The Committee will also discuss items to include in the Comprehensive ACL Amendment for public scoping.

10. Ecosystem-based Committee Meeting: December 3, 2008, 8 a.m. until 12 noon

The Ecosystem-based Committee will review and revise the Fishery Ecosystem Plan (FEP) and the Comprehensive Ecosystem-based Amendment as necessary and approve both documents for a second round of public hearings. The Committee will also discuss habitat issues as appropriate.

11. Snapper Grouper Committee Meeting: December 3, 2008, 1:30 p.m. until 6 p.m. and December 4, 2008, 8 a.m.-3 p.m.

The Snapper Grouper Committee will receive an update on Oculina Bank monitoring activities and Gray's Reef Research Area. The Committee will also receive a report from the SSC regarding the SEDAR stock assessment for vermilion snapper and Snapper Grouper Amendment 17. The Committee will review actions regarding vermilion snapper contained in Amendment 16 to the Snapper Grouper FMP and Law Enforcement Advisory Panel recommendations on Snapper Grouper Amendment 17. The Committee will then review draft Amendment 17, modify as appropriate, and is scheduled to approve the document for public hearings. In addition, the Committee will discuss a possible request for an interim rule to address overfishing for red snapper, and items to go to public scoping for the Comprehensive ACL Amendment.

12. SEDAR Committee Meeting: December 4, 2008, 3 p.m. until 4 p.m.

The SEDAR Steering Committee will develop recommendations for SEDAR 19 appointments, review the SEDAR Planning Schedule, receive updates on SEDAR Methods Workshops and SEDAR 17 addressing stock assessments for Spanish mackerel and vermilion snapper. The Committee will also discuss how to address research and data needs outlined in SEDAR 16, and develop recommendations for the next SEDAR Steering Committee meeting.

13. Council Session: December 4, 2008, 4 p.m. until 6 p.m. and December 5, 2008, 8 a.m. until 12 noon

Council Session: December 4, 2008, 4 p.m. until 6 p.m.

From 4 p.m.-4:15 p.m., the Council will call the meeting to order, adopt the agenda, and approve the September 2008 meeting minutes.

From 4:15 p.m.-5:30 p.m., the Council will hear a report from the Snapper Grouper Committee. The Council will provide its decision on submitting a Red Snapper Interim Rule request to the Secretary of Commerce. The Council will also consider Committee recommendations relative to vermilion snapper actions in Snapper Grouper Amendment 16 and take action as appropriate, approve Snapper Grouper Amendment 17 for public hearings, and consider other Committee recommendations and take action as appropriate.

NOTE: A public comment session will be held at 4:15 p.m. regarding an Interim Rule for addressing overfishing of red snapper if the Council considers an Interim Rule request.

From 5:30 p.m.-6 p.m., the Council will receive a presentation by FishSmart regarding the interactive process with stakeholders in the Atlantic king mackerel fishery.

Council Session: December 5, 2008, 8 a.m. until 12 noon

From 8 a.m.-8:15 a.m., the Council will receive a report from the SOPPs Committee and take action as appropriate.

From 8:15 a.m.-8:30 a.m., the Council will receive recommendations from the AP Selection Committee and take actions as appropriate.

From 8:30 a.m.-8:45 a.m., the Council will receive a report from the Ecosystem-based Management Committee and take action as appropriate.

From 8:45 a.m.-9 a.m., the Council will receive a report from the Joint Executive and Finance Committees, approve the CY 2009 Timelines, Activities Schedule, and budget, and take other actions as appropriate.

From 9 a.m.-9:15 a.m., the Council will receive a report from the Spiny Lobster Committee, consider recommendations, and take action as appropriate.

From 9:15 a.m.-9:30 a.m., the Council will receive a report from the LAPP Committee, consider recommendations, and take action as appropriate.

From 9:30 a.m.-9:45 a.m., the Council will receive a report from the Mackerel Committee, consider recommendations and take action as appropriate.

From 9:45 a.m.-10 a.m., the Council will receive a report from the SEDAR Committee, consider recommendations, and take action as appropriate.

From 10 a.m.-12 noon, the Council will receive status reports from NOAA Fisheries' Southeast Regional Office, NOAA Fisheries' Southeast Fisheries Science Center, agency and liaison reports, review Experimental Fishing Permit applications as necessary, and discuss other business including upcoming meetings.

Documents regarding these issues are available from the Council office (see ADDRESSES).

Although non-emergency issues not contained in this agenda may come before this Council for discussion, those issues may not be the subjects of formal final Council action during this meeting. Council action will be restricted to those issues specifically listed in this notice and any issues arising after publication of this notice that require emergency action under section 305 (c) of the Magnuson-Stevens Act, provided the public has been notified of the Council's intent to take final action to address the emergency.

Except for advertised (scheduled) public hearings and public comment, the times and sequence specified on this agenda are subject to change.

Special Accommodations

These meetings are physically accessible to people with disabilities. Requests for sign language interpretation or other auxiliary aids should be directed to the Council office (see ADDRESSES) by November 24, 2008.

Dated: November 10, 2008.
Tracey L. Thompson,
Acting Director, Office of Sustainable Fisheries, National Marine Fisheries Service.

[FR Doc. E8-27030 Filed 11-13-08; 8:45 am]

BILLING CODE 3510-22-S